DEPARTMENT OF ENERGY

Federal Energy Regulatory Commission

[Docket No. AD10-15-000]

Smart Grid Update; Notice of Commissioner and Staff Attendance at FERC/NARUC Collaborative on Smart Response Meeting

July 15, 2010.

The Federal Energy Regulatory Commission hereby gives notice that members of the Commission and/or Commission staff may attend the following meeting:

FERC/NARUC Collaborative on Smart Response: Sacramento Convention Center, 1400 J Street, Sacramento, CA 95814. July 18, 2010 (8:15 a.m.-12:30 p.m.)

Further information may be found at http://summer.narucmeetings.org/program.cfm.

Kimberly D. Bose,
Secretary.

[FR Doc. 2010-17888 Filed 7-21-10; 8:45 am]

BILLING CODE 6717-01-P